DEPARTMENT OF AGRICULTURE

Food Safety and Inspection Service

[Docket No. FSIS-2015-0014]

Codex Alimentarius Commission: Meeting of the Codex Committee on Fresh Fruits and Vegetables

AGENCY: Office of the Under Secretary for Food Safety, USDA.

ACTION: Notice of public meeting and request for comments.

SUMMARY: The Office of the Under Secretary for Food Safety, United States Department of Agriculture (USDA), and the Agricultural Marketing Service (AMS), are holding a public meeting on August 6, 2015. The purpose of the meeting is to provide information and receive public comments on agenda items and draft United States (U.S.) positions that will be discussed at the 19th Session of the Codex Committee on Fresh Fruits and Vegetables (CCFFV) of the Codex Alimentarius Commission (Codex). The Session will be held in Mexico [the specific location in Mexico will be determined], October 5-9, 2015. The Deputy Under Secretary for Food Safety and the Agricultural Marketing Service recognize the importance of providing interested parties the opportunity to obtain background information on the 19th Session of CCFFV and to address items on the agenda.

DATES: The public meeting is scheduled for August 6, 2015, from 2:00-5:00 p.m.

ADDRESSES: The public meeting will be held at the United States Department of Agriculture (USDA), Jamie L. Whitten Building, 1400 Independence Avenue SW., Room 107-A, Washington, DC 20250. Documents related to the 19th Session of CCFFV will be accessible via the Internet at the following address: http://www.codexalimentarius.org/meetings-reports/en/.

The U.S. Delegate of the 19th Session of the CCFFV invites U.S. interested parties to submit their comments electronically to the following email address: dorian.lafond@usda.gov.

Call In Number

If you wish to participate in the public meeting for the 19th Session of the CCFFV, by conference call, please use the call in number and participant code listed below:

Call in Number: 1-888-844-9904.

The participant code will be posted on the Web page below: http://www.fsis.usda.gov/wps/portal/fsis/topics/international-affairs/us-codex-alimentarius/public-meetings.

Registration

Attendees may register to attend the public meeting by emailing kenneth.lowery@fsis.usda.gov by August 4, 2015. Early registration is encouraged because it will expedite entry into the building. The meeting will be held in a Federal building. Attendees should also bring photo identification and plan for adequate time to pass through security screening systems. Attendees who are not able to attend the meeting in person, but who wish to participate, may do so by phone.

FOR FURTHER INFORMATION CONTACT: About the 19th Session of CCFFV: Dorian LaFond, Agricultural Marketing Service, Fruits and Vegetables Division, Stop 0235-Room 2086, United States Department of Agriculture, 1400 Independence Avenue SW., Washington, DC 20250. Phone: (202) 690-4944, Fax: (202) 720-0016, email: dorian.lafond@usda.gov.

About the Public Meeting: Kenneth Lowery, U.S. Codex Office, 1400 Independence Avenue, Room 4861, Washington, DC 20250. Phone: (202) 690-4042, Fax: (202) 720-3157, email: Kenneth.Lowery@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The CCFFV is responsible for elaborating worldwide standards and codes of practice as may be appropriate for fresh fruits and vegetables and for consulting with other international organizations in the standards development process to avoid duplication.

The Committee is hosted by Mexico.

Issues To Be Discussed at the Public Meeting

The following items on the Agenda for the 19th Session of CCFFV will be discussed during the public meeting:

• Matters referred by the Codex and other Codex Committees

• Matters referred by other international organizations on the standardization of fresh fruits and vegetables

• Proposed Draft Standard for Okra

• Proposed Draft Standard for Ware Potatoes

• Proposed Draft Standard for Garlic

• Proposed Draft Standard for Aubergines

• Proposed Draft Standard for Kiwifruit

• Minimum maturity requirements for table grapes

• Proposals for new work for Codex standards for fresh fruits and vegetables

• Proposed layout for Codex standards for fresh fruits and vegetables

Each issue listed will be fully described in documents distributed, or to be distributed, by the Secretariat prior to the Meeting. Members of the public may access or request copies of these documents (see ADDRESSES).

Public Meeting

At the August 6, 2015, public meeting, draft U.S. positions on the agenda items will be described and discussed, and attendees will have the opportunity to pose questions and offer comments. Written comments may be offered at the meeting or sent to the U.S. Delegate for the 19th Session of CCFFV, Dorian LaFond (see ADDRESSES). Written comments should state that they relate to activities of the 19th Session of CCFFV.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done at Washington, DC on June 11, 2015.
Mary Frances Lowe,
U.S. Manager for Codex Alimentarius.

[FR Doc. 2015-14840 Filed 6-16-15; 8:45 am]

BILLING CODE 3410-DM-P